DEPARTMENT OF COMMERCE

National Oceanic and Atmospheric Administration

RIN 0648-XA522

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Law Enforcement AP in Orlando, FL.

DATES: The meeting will take place July 20, 2011. See SUPPLEMENTARY INFORMATION.

ADDRESSES: The meeting will be held at the Marriott Renaissance Orlando Hotel, 5445 Forbes Place, Orlando, FL 32812; telephone: (407) 240-1000.

FOR FURTHER INFORMATION CONTACT: Kim Iverson, Public Information Officer, South Atlantic Fishery Management Council, 4055 Faber Place Drive, Suite 201, N. Charleston, SC 29405; telephone: (843) 571-4366 or toll free: (866) SAFMC-10; fax: (843) 769-4520; e-mail: kim.iverson@safmc.net.

SUPPLEMENTARY INFORMATION: Members of the Law Enforcement AP will meet from 8:30 a.m. to 5 p.m. on July 20, 2011.

The Law Enforcement AP will review the Comprehensive Annual Catch Limit (ACL) Amendment as well as Regulatory Amendment 11 to the Snapper Grouper Fishery Management Plan. The Comprehensive ACL Amendment establishes ACLs and Accountability Measures for species not undergoing overfishing in order to comply with the Magnuson-Stevens Act. Changes affect snapper grouper complex species, dolphin, wahoo and golden crab. Regulatory Amendment 11 addresses the current 240-foot depth closure (also known as the 40-fathom closure) implemented through Amendment 17B. The closure currently applies to deepwater snapper grouper species (snowy grouper, blueline tilefish, yellowedge grouper, misty grouper, queen snapper, and silk snapper) and was put in place to minimize bycatch of speckled hind and warsaw grouper. The AP will receive an overview of the amendments and provide recommendations.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Dated: June 23, 2011.
Tracey L. Thompson,
Acting Director, Office of Sustainable Fisheries, National Marine Fisheries Service.

[FR Doc. 2011-16170 Filed 6-27-11; 8:45 am]

BILLING CODE 3510-22-P